DEPARTMENT OF AGRICULTURE

Risk Management Agency

Notice of Intent To Seek Approval To Conduct an Information Collection

AGENCY: Risk Management Agency, USDA.

ACTION: Notice and request for comments.

SUMMARY: In accordance with the Paperwork Reduction Act of 1995, this notice announces the intention of the Risk Management Agency to request approval for the collection of information in support of the agency's mission under section 522(d) of the Federal Crop Insurance Act to develop and implement risk management tools for producers of agricultural commodities through partnership agreements.

DATES: Written comments on this notice will be accepted until close of business July 21, 2006.

ADDRESSES: Interested persons are invited to submit written comments to Virginia Guzman, United States Department of Agriculture (USDA), Research and Evaluation Division, Federal Crop Insurance Corporation, Risk Management Agency, 6501 Beacon Drive, Mail Stop 813, Kansas City, MO 64133. Written comments may also be submitted electronically to: RMARED.PRA@rma.usda.gov.

FOR FURTHER INFORMATION CONTACT: Virginia Guzman or David Fulk, at the Kansas City, MO address listed above, telephone (816) 926-6343.

SUPPLEMENTARY INFORMATION: Title: Agricultural Risk Management, Research and Evaluation, Organic Transition Simulation Model and Online Training Course Project.

OMB Number: 0563-NEW.

Type of Request: New Information Collection.

Abstract: The Risk Management Agency intends to collect information for purposes of product development and program evaluation. The product development data collection is necessary to obtain feedback from experts and potential users of a Web-based simulation model designed to assist farmers and agricultural extension specialists in understanding the economic and environmental consequences in making a transition from traditional to organic production techniques. Results of this collection will be used to revise and improve the simulation model. The program evaluation component of the data collection is required to assess the effectiveness of the fully developed simulation model and the accompanying training course. All data collections will be conducted online using an automated web-survey system. We are asking the Office of Management and Budget (OMB) to approve this information collection activity for 3 years.

The purpose of this notice is to solicit comments from the public concerning the information collection activities. These comments will help us:

1. Evaluate whether the proposed collection of information is necessary for the proper performance of the functions of the agency, including whether the information will have practical utility;

2. Evaluate the accuracy of the agency's estimate of the burden of the proposed collection information;

3. Enhance the quality, utility, and clarity of the information to be collected; and

4. Minimize the burden of the collection of information on those who are to respond, through use, as appropriate, of automated, electronic, mechanical, or other collection technologies, e.g. permitting electronic submission of responses.

Estimate of Burden: The public reporting burden for this collection of information is estimated to average 3 to 10 minutes per response, depending on the survey.

Respondents/Affected Entities: Farmers who are growing organic crops or are considering the production of organic crops and Cooperative Extension specialists who advise farmers and educators on the basics of organic production and marketing.

Estimated annual number of respondents: 1,660.

Estimated annual number of responses: 8,120.

Estimated total annual burden on respondents: 1,111 hours.

All responses to this notice will be summarized and included in the request for OMB approval. All comments will also become a matter of public record.

Signed in Washington, DC, on May 16, 2006.
Eldon Gould,
Manager, Federal Crop Insurance Corporation.

[FR Doc. E6-7752 Filed 5-19-06; 8:45 am]

BILLING CODE 3410-08-P